DEPARTMENT OF ENERGY

Federal Energy Regulatory Commission

[Project No. 2244-022]

Energy Northwest; Notice of Staff Participation in Meeting

March 10, 2009.

On April 27, 2009, Office of Energy Projects staff (staff) will host a meeting in Olympia, Washington to: (1) Discuss the Packwood Lake Hydroelectric Project (project) draft environmental assessment (EA) (issued on February 5, 2009), and comments filed therein; (2) to discuss and attempt to resolve differences between the staff's recommended alternative in the draft EA with the 10(j) recommendation filed by the Washington Department of Fish and Wildlife; and (3) facilitate the processing of the National Marine Fisheries Service's biological opinion, the Washington State Department of Ecology's water quality certification, and the Forest Service's modified 4(e) conditions for the project.

The meeting will start at 9 a.m. at the Washington Public Utility District Association building, located at 212 Union Avenue SE., Olympia, WA 98501. For directions please contact Audrey Desserault of Energy Northwest at (509) 377-8468, or via e-mail at: AJDESSERAULT@energy-northwest.com. For further information about the meeting please contact Carolyn Templeton of the Commission's staff at (202) 502-8785, or via e-mail at: Carolyn.Templeton@ferc.gov.

Kimberly D. Bose,
Secretary.

[FR Doc. E9-5682 Filed 3-16-09; 8:45 am]

BILLING CODE 6717-01-P